POSTAL SERVICE

39 CFR Part 265

Production or Disclosure of Material or Information; Adding the Definition of a Record and Clarifying Language Concerning the Timing of Responses to Requests and Specific Categories of Records

AGENCY: Postal Service™.

ACTION: Final rule.

SUMMARY: The Postal Service is adding the definition of a record to its regulations concerning the Freedom of Information Act. The Postal Service is deleting language in order to clarify the timing of responses to requests. The Postal Service is also adding two words to two provisions in its Freedom of Information Act regulations concerning special categories of records, for clarification purposes.

DATES: Effective date: July 18, 2017.

FOR FURTHER INFORMATION CONTACT: Natalie A. Bonanno, Chief Counsel, Federal Compliance, natalie.a.bonanno@usps.gov, 202-268-2944.

SUPPLEMENTARY INFORMATION: On November 30, 2016 (81 FR 86270), the Postal Service published its revised Freedom of Information Act (FOIA) regulations to comply with the FOIA Improvement Act of 2016 (FOIAIA), effective December 27, 2016. In response to public comments, the Postal Service published an additional change to these regulations on January 10, 2017 (82 FR 2896). After further review, the Postal Service published miscellaneous technical corrections to its regulations on March 8, 2017 (82 FR 12921). The Postal Service is now adding a record definition, deleting language from the timing of responses to requests, and adding two words to two provisions in its Freedom of Information Act regulations concerning records relating to specifically identified customers, for clarification purposes.

List of Subjects in 39 CFR Part 265

Administrative practice and procedure, Courts, Freedom of information, Government employees.

For the reasons stated in the preamble, the Postal Service amends 39 CFR chapter I as follows:

PART 265—[AMENDED]

1. The authority citation for 39 CFR part 265 continues to read as follows:

Authority: 5 U.S.C. 552; 5 U.S.C. App. 3; 39 U.S.C. 401, 403, 410, 1001, 2601; Pub. L. 114-185.

2. Revise § 265.1 to read as follows:

§ 265.1 General provisions.

(a) Policy. (1) This subpart contains the regulations that implement the Freedom of Information Act (FOIA), 5 U.S.C. 552, insofar as the Act applies to the Postal Service. These rules should be read in conjunction with the text of the FOIA and the Uniform Freedom of Information Fee Schedule and Guidelines published by the Office of Management and Budget (OMB Guidelines). The Postal Service FOIA Requester's Guide, an easy-to-read guide for making Postal Service FOIA requests, is available at http://about.usps.com/who-we-are/foia/welcome.htm.

(2) Requests made by individuals for records about themselves under the Privacy Act of 1974, 5 U.S.C. 552a, are processed under part 266 of this chapter as well as under this subpart.

(3) It is the policy of the Postal Service to make its official records available to the public to the maximum extent consistent with the public interest. This policy requires a practice of full disclosure of those records that are covered by the requirements of the FOIA, subject only to the specific exemptions required or authorized by law. The exemptions from mandatory disclosure for various types of records provided by 5 U.S.C. 552(b) and 39 U.S.C. 410(c) reflect the fact that under some circumstances, the public interest may be better served by leaving the disclosure of particular records to the discretion of the Postal Service rather than by requiring their disclosure. This Postal Service policy does not create any right enforceable in court.

(4) Nothing in this subpart shall be construed to entitle any person, as of right, to any service or to the disclosure of any record to which such person is not entitled under the FOIA.

(b) Definitions—(1) Record. (i) For purposes of this part, a record is a discrete, distinct, or segregable grouping of information that pertains to a specific topic that is:

(A) Recorded, regardless of media, format, or physical characteristics, including electronic data; and

(B) In the custody or control of the Postal Service.

(ii) The definition of a record does not include any discrete, distinct, or segregable grouping of information created at the discretion of an employee primarily for the employee's convenience and not disclosed to other employees. The definition of a record is not the same as a “document;” a single “document” may be a single record or it may include multiple records and groupings of information that do not constitute records as defined in this section.

(2) Component. For purposes of this subpart, component means any department or facility within the Postal Service that maintains records; the Office of Inspector General; and the Postal Inspection Service. Postal Service refers to all such components collectively.

3. Revise § 265.5(a) to read as follows:

§ 265.5 Timing of responses to requests.

(a) In general. Requests will ordinarily be responded to according to their order of receipt. A request that is not initially submitted to the appropriate FOIA RSC will be deemed to have been received by the Postal Service at the time that it is actually received by the appropriate FOIA RSC, but in any case a request will be deemed to have been received no later than 10 business days after the request is first received by a FOIA RSC.

* * * * *

4. In § 265.14, revise paragraphs (d) introductory text and (d)(5) introductory text to read as follows:

§ 265.14 Rules concerning specific categories of records.

* * * * *

(d) Disclosure of names and addresses of specifically identified Postal Service customers. Upon request, the names and addresses of specifically identified Postal Service customers will be made available only as follows:

* * * * *

(5) Exceptions. Except as otherwise provided in these regulations, names or addresses of specifically identified Postal Service customers will be furnished only as follows:

* * * * *

Ruth B. Stevenson,
Attorney, Federal Compliance.

[FR Doc. 2017-14934 Filed 7-17-17; 8:45 am]

BILLING CODE 7710-12-P